DEPARTMENT OF ENERGY

Office of Energy Efficiency and Renewable Energy

10 CFR Part 490

RIN 1904-AB67

Alternative Fuel Transportation Program; Replacement Fuel Goal Modification

AGENCY: Office of Energy Efficiency and Renewable Energy, Department of Energy (DOE or Department).

ACTION: Proposed rule; reopening of comment period.

SUMMARY: The Office of Energy Efficiency and Renewable Energy proposed to amend the Replacement Fuel Goal provided under the Energy Policy Act of 1992 (EPAct 1992), Public Law 102-486. 71 FR 54771 (September 19, 2006). The purpose of the proposed amendment is to revise the goal to a level which is achievable, in accordance with requirements under section 504 of EPAct 1992.

Due to technical difficulties in receiving the electronic comments on the proposed rule for the Replacement Fuel Goal, the comment period, which originally ended on November 3, 2006, is reopened and comments will be accepted until January 31, 2007, to ensure that all comments submitted during the original comment period are entered in the docket. All comments already received by DOE have been posted in the written comments section of the electronic docket at http://www1.eere.energy.gov/vehiclesandfuels/epact/private/plg_docket.html. If comments were previously submitted but are not posted in this location, the comments should be resubmitted to DOE prior to the new deadline.

DATES: The comment period for the proposed rule published on September 19, 2006 which ended on November 3, 2006 is reopened and extended to January 31, 2007.

ADDRESSES: You may submit comments, identified by the number RIN 1904-AB67, by either of the following methods:

—E-mail: Submit through both regulatory_info@afdc.nrel.gov and dana.o'hara@hq.doe.gov. Include the number 1094-AB67 in the subject line of the message.

— Mail: U.S. Department of Energy, Office of Energy Efficiency and Renewable Energy, EE-2G, RIN 1904-AB67, 1000 Independence Avenue, SW., Washington, DC 20585-0121.

FOR FURTHER INFORMATION CONTACT: Mr. Dana V. O'Hara, Office of Energy Efficiency and Renewable Energy (EE-2G), U.S. Department of Energy, 1000 Independence Avenue, SW., Washington, DC 20585-0121; (202) 586-9171; or Mr. Chris Calamita, Office of the General Counsel (GC-72), U.S. Department of Energy, 1000 Independence Avenue, SW., Washington, DC 20585-0121; (202) 586-9507.

SUPPLEMENTARY INFORMATION: In the proposed rule published September 19, 2006, DOE proposed to modify the 2010 goal of 30 percent of U.S. motor fuel production to be supplied by replacement fuels, established in section 502(b)(2) of the Energy Policy Act of 1992, because it is not achievable. 71 FR 54771. The Department has authority to review the goal and to modify it, by rule, if it is not achievable, and in doing so may change the percentage level for the goal and/or the timeframe for achievement of the goal. (42 U.S.C. 13254(b).) The Department has preliminarily determined through its analysis that the 30 percent replacement fuel production goal could potentially be met, not by 2010, but at a later date. The Department consequently is proposing to keep the replacement fuel goal of 30 percent originally provided in EPAct 1992 (section 502(b)(2)), but extend the date for achieving the goal to 2030.

Due to technical difficulties in receiving the electronic comments on the proposed rule, the comment period is reopened until January 31, 2007. During the original comment period, some comments were not accepted by the electronic docket. We believe that all comments originally blocked from submission have since been resubmitted successfully.

However, to ensure that all comments submitted electronically during the original comment period are included in the docket for this rulemaking, we are reopening the comment period. If an interested person submitted a comment electronically during the original comment period, and that comment is not posted on the electronic docket (http://www1.eere.energy.gov/vehiclesandfuels/epact/private/plg_docket.html), that comment should be resubmitted as directed under the ADDRESSES heading.

Issued in Washington, DC, on January 11, 2007.
Alexander A. Karsner,
Assistant Secretary, Energy Efficiency and Renewable Energy.

[FR Doc. E7-607 Filed 1-17-07; 8:45 am]

BILLING CODE 6450-01-P